DEPARTMENT OF STATE

[Public Notice: 11430]

U.S. Advisory Commission on Public Diplomacy Notice of Meeting

The U.S. Advisory Commission on Public Diplomacy (ACPD) will hold a virtual public meeting from 12:00 p.m. until 1:30 p.m., Thursday, June 17, 2021. The meeting will focus on public diplomacy responses to China's influence strategies. A panel of experts on China's information and public diplomacy initiatives will discuss challenges and opportunities for PD practitioners in responding to China's state-sponsored influence operations.

This meeting is open to the public, including the media and members and staff of governmental and non-governmental organizations. To obtain the web conference link and password please register here: https://www.eventbrite.com/e/public-diplomacy-responses-to-chinas-influence-strategies-tickets-153520669455. To request reasonable accommodation, please email ACPD Program Assistant Kristy Zamary at ZamaryKK@state.gov. Please send any request for reasonable accommodation no later than June 8, 2021. Requests received after that date will be considered, but might not be possible to fulfill. Attendees should plan to enter the web conference waiting room by 11:50 a.m. to allow for a prompt start.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy/, or contact Executive Director Vivian S. Walker at WalkerVS@state.gov or Senior Advisor Shawn Baxter at BaxterGS@state.gov.

Kristina K. Zamary,
Department of State.

[FR Doc. 2021-11246 Filed 5-26-21; 8:45 am]

BILLING CODE 4710-45-P